DEPARTMENT OF COMMERCE

National Oceanic and Atmospheric Administration (NOAA)

Science Advisory Board (SAB); Notice of Open Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

TIME AND DATE: The meeting will be held Wednesday, March 9, 2011, from 9:45 a.m. to 5:30 p.m. and Thursday, March 10, 2011, from 8:30 a.m. to 2:30 p.m. These times and the agenda topics described below are subject to change. Please refer to the Web page http://www.sab.noaa.gov/Meetings/meetings.html for the most up-to-date meeting agenda.

PLACE: The meeting will be held at the Hilton Washington Embassy Row, 2015 Massachusetts Avenue, NW., Washington, DC 20036.

Please check the SAB Web site http://www.sab.noaa.gov for confirmation of the venue and for directions.

STATUS: The meeting will be open to public participation with a 30-minute public comment period on March 9 at 5 p.m. (check Web site to confirm time). The SAB expects that public statements presented at its meetings will not be repetitive of previously submitted verbal or written statements. In general, each individual or group making a verbal presentation will be limited to a total time of five (5) minutes. Written comments should be received in the SAB Executive Director's Office by March 1, 2011 to provide sufficient time for SAB review. Written comments received by the SAB Executive Director after March 1, 2011 will be distributed to the SAB, but may not be reviewed prior to the meeting date. Seats will be available on a first-come, first-served basis.

Matters To Be Considered: The meeting will include the following topics: (1) SAB Ecosystem Sciences and Management Working Group Report on Coastal and Marine Spatial Planning; (2) Discussion of NOAA and SAB Activities on Ocean Policy and Coastal and Marine Spatial Planning; (3) SAB Data Archive and Access Requirements Working Group Report; (4) Update of the SAB Working Group Subcommittee; (5) NOAA Response to the SAB Recommendations on Implementing Integrated Ecosystem Assessments; (6) NOAA Response to the SAB Recommendations on Integrated Ecosystem Assessments, the Ecosystem Approach to Management and Coastal and Marine Spatial Planning; (7) NOAA Response to the SAB Recommendations on Oceans and Human Health; (8) Presentation on NOAA's Space Weather Program; (9) Connecting Climate and Ecosystems: Progress and Challenges and (10) Updates from SAB Working Groups.

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov; or visit the NOAA SAB Web site at http://www.sab.noaa.gov.

Dated: February 22, 2011.
Mark E. Brown,
Chief Financial Officer/Chief Administrator Officer, Office of Oceanic and Atmospheric Research, National Oceanic and Atmospheric Administration.

[FR Doc. 2011-4354 Filed 2-25-11; 8:45 am]

BILLING CODE 3510-KD-P